DEPARTMENT OF AGRICULTURE

Agricultural Marketing Service

[AMS-SC-20-0071; SC20-990-1-N]

Domestic Hemp Production Program, Request for Approval of a New Information Collection

AGENCY: Agricultural Marketing Service, USDA.

ACTION: Notice and request for comments.

SUMMARY: In accordance with the Paperwork Reduction Act of 1995, the Agricultural Marketing Service (AMS) invites public comments about our intention to request Office of Management and Budget (OMB) approval for a new information collection to collect data on hemp production through a producer survey. This survey is necessary to identify data in the emerging hemp industry and for administering the domestic hemp program.

DATES: Comments on this notice must be received by December 15, 2020 to be assured of consideration.

ADDRESSES: Interested persons are invited to submit written comments concerning this notice. Comments must be sent to Marketing Order and Agreement Division, Specialty Crops Program, AMS, USDA, 1400 Independence Avenue SW, STOP 0237, Washington, DC 20250-0237; Fax: (202) 720-8938; or internet: www.regulations.gov. Comments should reference the docket number and the date and page number of this issue of the Federal Register and will be available for public inspection in the Office of the Docket Clerk during regular business hours or can be viewed at: www.regulations.gov. All comments submitted in response to this notice will be included in the record and will be made available to the public. Please be advised that the identity of individuals or entities submitting the comments will be made public on the internet at the address provided above.

FOR FURTHER INFORMATION CONTACT: William Richmond, Chief, Domestic Hemp Program Branch, Marketing Order and Agreement Division, Specialty Crops Program, AMS, USDA, 1400 Independence Avenue SW, STOP 0237, Room 1406, Washington, DC 20250-0237; Telephone: (202) 720-2491, Fax: (202) 720-8938, or Email: william.richmond@usda.gov.

Small businesses may request information on complying with this regulation by contacting Richard Lower, Assistant to the Director, Marketing Order and Agreement Division, Specialty Crops Program, AMS, USDA, 1400 Independence Avenue SW, STOP 0237, Washington, DC 20250-0237; Telephone: (202) 720-2491, Fax: (202) 720-8938, or Email: richard.lower@usda.gov.

SUPPLEMENTARY INFORMATION:

Title: Survey of Hemp Producers and Production Trends.

OMB Number: 0581-NEW.

Type of Request: New Information Collection.

Abstract: AMS proposes to conduct a survey to collect information from U.S. hemp producers on current production costs, production practices, and marketing practices. This voluntary questionnaire is organized into four general sections.

AMS has partnered with the University of Kentucky to develop and administer this hemp survey. The data obtained from the survey will be used for forecasting hemp activity and to develop a representative understanding of hemp production practices and costs at national, regional, and state levels. Once the survey has been administered and the results collected, the University of Kentucky will summarize the raw data from the survey into a comprehensive report for AMS.

The survey will be administered through the National Association of State Departments of Agriculture (NASDA) using each state department of agriculture. Respondents can participate in the survey online or by completing the paper version. The survey will also be administered to Tribes that have approved hemp production programs, in order to get input from tribal hemp production. USDA estimates the number of producers that will complete this survey to be approximately 18,000. This figure was derived from 2019 growing season data provided to USDA by Vote Hemp, a National hemp advocacy organization, along with data from certain State Departments of Agriculture.

The first section of the survey, General Hemp Experience, requests data on production location, licensed acreage, planted acreage, and harvested acreage by end-use. Collecting this information is necessary to develop an understanding of the industry across the country.

The second section asks questions about production costs and practices. Data collected will include information on input costs including seed, labor, fertilizer, licensing fees, and testing. This section dives deeper into the production costs for hemp and asks specific questions about the types of hemp.

The third section covers contracting and marketing practices. Data collected will include information on farmgate pricing by end use, contract usage, contract structure, and storage.

The final section, Decision Maker Characteristics, will collect demographic information on producers age, education level, experience, household size, and race.

Estimate of Burden: Public reporting burden for this collection of information is estimated to average 0.5 hours per response.

Description of Respondents: Domestic hemp producers.

Number of Respondents: 18,000 respondents.

Frequency of Responses: Once.

Total Burden Hours: 9,000 total burden hours.

Comments are invited on: (1) Whether this collection of information is necessary for the proper performance of the functions of the agency, including whether the information has practical utility; (2) the accuracy of the agency's estimate of the burden of the collection of information including the validity of the methodology and assumptions used; (3) ways to enhance the quality, utility, and clarity of the information collected; and (4) ways to minimize the burden of the collection of information on those who respond, including through the use of appropriate automated, electronic, mechanical, or other technological collection techniques or other forms of information technology.

Comments should reference this docket number and be sent electronically to www.regulations.gov, or in writing to the USDA in care of the Docket Clerk at the address above. All comments received within the provided comment period will be available for public inspection during regular business hours at the same address.

All responses to this notice will be summarized and included in the request for OMB approval. All comments will also become a matter of public record.

AMS is committed to compliance with the E-Government Act to promote the use of the internet and other information technologies, to provide increased opportunities for citizen access to Government information and services, and for other purposes.

A 60-day comment period is provided to allow interested persons to respond to the notice.

Bruce Summers,
Administrator, Agricultural Marketing Service.

[FR Doc. 2020-22924 Filed 10-15-20; 8:45 am]

BILLING CODE P